OFFICE OF PERSONNEL MANAGEMENT

5 CFR Part 532

RIN 3206-AJ21

Prevailing Rate Systems; Miscellaneous Changes to Certain Federal Wage System Wage Areas

AGENCY: Office of Personnel Management.

ACTION: Interim rule with request for comments.

SUMMARY: The Office of Personnel Management is issuing an interim rule to add Jefferson County, Washington, as an area of application to the Kitsap, WA, nonappropriated fund (NAF) Federal Wage System (FWS) wage area. We are also renaming the Champaign-Urbana, IL, FWS wage area as the Central Illinois FWS wage area; updating the name of the White Sands Proving Grounds in the El Paso, TX, and Albuquerque, NM, wage area listings to the White Sands Missile Range; and correcting a typographic error in the wage area listing for the Southern Colorado wage area.

DATES: Effective Date: This regulation is effective on September 8, 2000. Comments are due September 8, 2000.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Jennifer Hopkins, (202) 606-2848; FAX: (202) 606-0824; or email jdhopkin@opm.gov.

SUPPLEMENTARY INFORMATION:

Jefferson County

The Office of Personnel Management (OPM) is defining Jefferson County, Washington, as an area of application to the Kitsap, WA, Federal Wage System (FWS) nonappropriated fund (NAF) wage area. The Naval Ordnance Center, Pacific Division, Detachment Port Hadlock, now has a small club in Jefferson County. The club employs two NAF FWS employees. Under section 532.219 of title 5, Code of Federal Regulations, each NAF wage area “shall consist of one or more survey areas, along with nonsurvey areas, having nonappropriated fund employees.” The Kitsap wage area now consists of one survey county, Kitsap County, and one area of application county, Clallam County, WA.

OPM considers the following regulatory criteria under 5 CFR 532.219 when defining FWS wage area boundaries:

(i) Proximity of largest activity in each county;

(ii) Transportation facilities and commuting patterns; and

(iii) Similarities of the counties in:

(A) Overall population;

(B) Private employment in major industry categories; and

(C) Kinds and sizes of private industrial establishments.

Jefferson County cannot be defined as a separate NAF wage area because the county does not meet the regulatory criteria to be a separate NAF wage area. However, nonsurvey counties can be combined with a survey area to form a wage area. Therefore, we are defining Jefferson County as an area of application to an existing NAF wage area.

The Naval Submarine Base, Bangor, in the Kitsap survey area, is the closest major Federal installation to Port Hadlock. It is approximately 53 km (33 miles) from Port Hadlock. Commuting patterns data for Jefferson County indicate that 6 percent of the county's resident workforce commutes to work in the Kitsap survey area. Transportation facilities consist of major interstates and highways. Residents of Jefferson County who commute into Pierce and Snohomish Counties must use a ferry or drive around Puget Sound to reach either of these counties. A review of employment and kinds and sizes of industrial establishments shows that Jefferson County is closely similar to the Kitsap survey area.

The Federal Prevailing Rate Advisory Committee (FPRAC), the national labor-management committee that advises OPM on FWS pay matters, reviewed and concurred by consensus with this change.

Miscellaneous Changes

FPRAC also reviewed the Champaign-Urbana, IL, FWS wage area and determined that the wage area's counties are properly defined under the regulatory criteria for defining FWS wage areas. However, the Committee agreed by consensus to recommend that OPM rename the wage area as the Central Illinois FWS wage area because this name better describes the boundaries of the wage area. FPRAC reviewed the El Paso FWS wage area and determined that the wage area's counties are also properly defined. The Committee agreed by consensus to recommend that OPM update the name of the White Sands Proving Grounds because the Department of Defense now refers to it as the White Sands Missile Range.

The White Sands Proving Grounds is listed under the El Paso and Albuquerque wage areas; therefore, the name needs to be updated in the listing for both wage areas.

On May 5, 2000, we published a final rule (65 FR 26199) that redefined certain counties in the Southern Colorado and Denver, CO, FWS wage areas. FPRAC agreed to redefine Pitkin County, CO, from the Southern Colorado wage area to the Denver wage area. Because of a typographical error, Pitkin County appears under both wage area listings in appendix C of subpart B of part 532 of title 5, Code of Federal Regulations. We should have removed Pitkin County from the Southern Colorado wage area listing in the final rule. Therefore, we are removing Pitkin County from the Southern Colorado listing to reflect FPRAC's previous recommendation for the county.

Waiver of Notice of Proposed Rulemaking

Pursuant to section 553(b)(3)(B) of title 5, United States Code, I find that good cause exists for waiving the general notice of proposed rulemaking. The notice is being waived because it is necessary to define Jefferson County, WA, to an NAF wage area as soon as possible to set pay for new FWS employees in the county.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

2. Appendix A to subpart B of part 532 is amended for the State of Illinois by revising the name of the “Champaign-Urbana” wage area to read “Central Illinois”.

3. Appendix C to subpart B is amended for the State of Colorado by revising the wage area listing for Southern Colorado, for the State of New Mexico by revising the wage area listing for Albuquerque, and for the State of Texas by revising the wage area listing for El Paso, to read as follows:

Appendix C to Subpart B of Part 532—Appropriated Fund Wage and Survey Areas

* * * * *

COLORADO

* * * * *

SOUTHERN COLORADO

Survey Area

Colorado:

El Paso

Pueblo

Teller

Area of Application. Survey area plus:

Colorado:

Alamosa

Archuleta

Baca

Bent

Chaffee

Cheyenne

Conejos

Costilla

Crowley

Custer

Delta

Dolores

Fremont

Gunnison

Hinsdale

Huerfano

Kiowa

Kit Carson

Las Animas

Lincoln

Mineral

Montrose

Otero

Ouray

Prowers

Rio Grande

Saguache

San Juan

San Miguel

* * * * *

NEW MEXICO

ALBUQUERQUE

Survey Area

New Mexico:

Bernalillo

Sandoval

Area of Application. Survey area plus:

New Mexico:

Catron

Cibola

Colfax

Curry

De Baca

Guadalupe

Harding

Lincoln (Does not include White Sands Missile Range portions.)

Los Alamos

Mora

Quay

Rio Arriba

Roosevelt

San Miguel

Santa Fe

Socorro (Does not include White Sands Missile Range portions.)

Taos

Torrance

Union

Valencia

* * * * *

TEXAS

* * * * *

EL PASO

Survey Area

Texas:

El Paso

New Mexico:

Dona Ana

Otero

Area of Application. Survey area plus:

New Mexico:

Chaves

Eddy

Grant

Hidalgo

Lincoln (Only White Sands Missile Range portions.)

Luna

Sierra

Socorro (Only White Sands Missile Range portions.)

Texas:

Culberson

Hudspeth

* * * * *

4. Appendix D to subpart B is amended for the State of Washington by revising the wage area listing for Kitsap to read as follows:

Appendix D to Subpart B of Part 532—Nonappropriated Fund Wage and Survey Areas

* * * * *

WASHINGTON

* * * * *

KITSAP

Survey Area

Washington:

Kitsap

Area of Application. Survey area plus:

Washington:

Clallam

Jefferson

* * * * *

[FR Doc. 00-20061 Filed 8-8-00; 8:45 am]

BILLING CODE 6325-01-P